DEPARTMENT OF THE INTERIOR

Bureau of Land Management

[AK-933-1430-ET; A-023002]

Public Land Order No. 7514; Extension of Public Land Order No. 6244; AK

AGENCY: Bureau of Land Management, Interior.

ACTION: Public Land Order.

SUMMARY: This order extends Public Land Order No. 6244 for an additional 20 years. This extension is necessary to continue the protection of the Department of the Army's Fort Richardson Military Reservation known as the Davis Range Tract M.

EFFECTIVE DATE: May 13, 2002.

FOR FURTHER INFORMATION CONTACT: Robbie J. Havens, Bureau of Land Management, Alaska State Office, 222 W. 7th Avenue, No. 13, Anchorage, Alaska 99513-7599, 907-271-5477.

By virtue of the authority vested in the Secretary of the Interior by Section 204 of the Federal Land Policy and Management Act of 1976, 43 U.S.C. 1714 (1994), it is ordered as follows:

1. Public Land Order No. 6244, which withdrew public lands to protect the Fort Richardson Military Reservation known as the Davis Range Tract M, is hereby extended for an additional 20-year period following its date of expiration.

2. This withdrawal will expire May 12, 2022, unless as a result of a review conducted before the expiration date pursuant to Section 204(f) of the Federal Land Policy and Management Act of 1976, 43 U.S.C. 1714(f) (1994), the Secretary determines that the withdrawal shall be extended.

Dated: February 15, 2002.
J. Steven Griles,
Deputy Secretary.

[FR Doc. 02-5435 Filed 3-6-02; 8:45 am]

BILLING CODE 4310-JA-P